ENVIRONMENTAL PROTECTION AGENCY

[FRL-9513-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 0155.10; Certification of Pesticide Applicators (Renewal); 40 CFR parts 152 and 171; was approved on 02/03/2012; OMB Number 2070-0029; expires on 02/28/2015; Approved with change.

EPA ICR Number 1856.08; NESHAP for Primary Lead Processing; 40 CFR part 63 subparts A and TTT; was approved on 02/03/2012; OMB Number 2060-0414; expires on 02/28/2015; Approved without change.

EPA ICR Number 2372.03; Mandatory Reporting of Greenhouse Gases: Injection and Geological Sequestration of Carbon Dioxide, Subparts RR and UU (Technical Correction); 40 CFR part 98, subparts RR and UU; was approved on 02/06/2012; OMB Number 2060-0649; expires on 12/31/2013; Approved without change.

EPA ICR Number 1712.08; NESHAP for Shipbuilding and Ship Repair Facilities—Surface Coating; 40 CFR part 63 subparts A and II; was approved on 02/06/2012; OMB Number 2060-0330; expires on 02/28/2015; Approved without change.

EPA ICR Number 2130.04; Transportation Conformity Determinations for Federally Funded and Approved Transportation Plans, Programs, and Projects (Renewal); 40 CFR part 93 subpart A; was approved on 02/08/2012; OMB Number 2060-0561; expires on 02/28/2015; Approved without change.

EPA ICR Number 1069.10; NSPS for Primary and Secondary Emissions from Basic Oxygen Furnaces; 40 CFR part 60 subparts A, N and Na; was approved on 02/13/2012; OMB Number 2060-0029; expires on 02/28/2015; Approved without change.

EPA ICR Number 2263.03; NSPS for Petroleum Refineries; 40 CFR part 60 subparts A and Ja; was approved on 02/13/2012; OMB Number 2060-0602; expires on 02/28/2015; Approved without change.

EPA ICR Number 1054.11; NSPS for Petroleum Refineries; 40 CFR part 60 subparts A and J; was approved on 02/13/2012; OMB Number 2060-0022; expires on 02/28/2015; Approved without change.

EPA ICR Number 1750.06; National Volatile Organic Compound Emission Standards for Architectural Coatings (Renewal); 40 CFR part 59 subpart D; was approved on 02/13/2012; OMB Number 2060-0393; expires on 02/28/2015; Approved without change.

EPA ICR Number 2394.02; Control of Greenhouse Gas Emissions from New Motor Vehicles: Heavy-Duty Engine and Vehicle Standards (Final Rule); 40 CFR parts 86, 523, 534, 535, 1036 and 1037; was approved on 02/17/2012; OMB Number 2060-0678; expires on 02/28/2015; Approved with change.

EPA ICR Number 2458.01; Fuel Use Requirements for Great Lakes Steamships (Direct Final); 40 CFR 1043.95; was approved on 02/21/2012; OMB Number 2060-0679; expires on 02/28/2015; Approved with change.

EPA ICR Number 2402.03; Willingness to Pay Survey for Section 316(b) Existing Facilities Cooling Water Intake Structures; was approved on 02/21/2012; OMB Number 2040-0283; expires on 07/31/2013; Approved with change.

EPA ICR Number 1230.31; Prevention of Significant Deterioration and Nonattainment New Source Review (Burden Transfer from 2060-0609); 40 CFR 49.151-49.175, 51.160-51.166, 52.21—52.24, 40 CFR part 51 Appendix S; was approved on 02/28/2012; OMB Number 2060-0003; expires on 04/30/2012; Approved with change.

EPA ICR Number 2237.03; NESHAP for Gasoline Distribution Bulk Terminals, Bulk Plants, Pipeline Facilities and Gasoline Dispensing Facilities; 40 CFR part 63 subpart A, BBBBBB and CCCCCC; was approved on 02/29/2012; OMB Number 2060-0620; expires on 02/28/2015; Approved without change.

EPA ICR Number 0746.08; NSPS for Calciners and Dryers in Mineral Industries; 40 CFR part 60 subparts A and UUU; was approved on 02/29/2012; OMB Number 2060-0251; expires on 02/28/2015; Approved without change.

EPA ICR Number 2267.03; NESHAP for Iron and Steel Foundries; 40 CFR part 63 subparts A and ZZZZZ; was approved on 02/29/2012; OMB Number 2060-0605; expires on 02/28/2015; Approved without change.

EPA ICR Number 0660.11; NSPS for Metal Coil Surface Coating; 40 CFR part 60 subparts A and TT; was approved on 02/29/2012; OMB Number 2060-0107; expires on 02/28/2015; Approved without change.

EPA ICR Number 1557.08; NSPS for Municipal Solid Waste Landfills; 40 CFR part 60 subparts A and WWW; was approved on 02/29/2012; OMB Number 2060-0220; expires on 02/28/2015; Approved without change.

EPA ICR Number 1131.10; NSPS for Glass Manufacturing Plants; 40 CFR part 60 subparts A and CC; was approved on 02/29/2012; OMB Number 2060-0054; expires on 02/28/2015; Approved without change.

EPA ICR Number 1597.10; Requirements and Exemptions for Specific RCRA Wastes (Renewal); 40 CFR 260.23, 40 CFR part 266 subpart N, 40 CFR 273.8, 273.14, 273.15, 273.18, 273.32, 273.34, 273.35, 273.38, 273.39, 273.61, 273.62, 279.10, 279.11, 279.42-279.44, 279.52-279.55, 279.57, 279.63, and 279.82; was approved on 02/29/2012; OMB Number 2050-0145; expires on 02/28/2015; Approved without change.

EPA ICR Number 0186.12; NESHAP for Vinyl Chloride; 40 CFR part 61 subparts A and F; was approved on 06/29/2011; OMB Number 2060-0071; expires on 06/30/2014; Approved without change.

EPA ICR Number 0661.10; NSPS for Asphalt Processing and Roofing Manufacturing (Renewal); 40 CFR part 60 subparts A and UU; was approved on 06/29/2011; OMB Number 2060-0002; expires on 06/30/2014; Approved without change.

EPA ICR Number 1125.06; NESHAP for Beryllium Rocket Motor Fuel Firing (Renewal); 40 CFR part 61 subparts A and D; was approved on 06/29/2011; OMB Number 2060-0394; expires on 06/30/2014; Approved without change.

Comment Filed

EPA ICR Number 2447.01; NESHAP for Primary Aluminum Production; in 40 CFR part 63 subpart LL; OMB filed comment on 02/03/2012.

EPA ICR Number 2028.07; NESHAP for Industrial, Commercial, and Institutional Boilers and Process Heaters; in 40 CFR part 63 subparts A and DDDDD; OMB filed comment on 02/06/2012.

EPA ICR Number 2427.01; Aircraft Engines—Supplemental Information Related to Exhaust Emissions (Proposed rule); in 40 CFR 87.42 and 87.46; OMB filed comment on 02/21/2012.

Withdrawn and Continue

EPA ICR Number 0938.19; General Administrative Requirements for Assistance Programs (Change to Add RPPR); Withdrawn from OMB on 02/09/2012.

John Moses,
Director, Collections Strategies Division.

[FR Doc. 2012-6008 Filed 3-12-12; 8:45 am]

BILLING CODE 6560-50-P